COMMITTEE FOR THE IMPLEMENTATION OF TEXTILE AGREEMENTS

Request for Public Comment on a Commercial Availability Request under the U.S.-Australia Free Trade Agreement

February 20, 2008.

AGENCY: Committee for the Implementation of Textile Agreements (CITA).

ACTION: Request for Public Comments concerning a request for modification of the U.S.-Australia Free Trade Agreement (USAFTA) rules of origin for a viscose/polyester blended yarn.

SUMMARY: On February 1, 2008, the Chairman of CITA received a request from Gentry Mills, alleging that certain viscose rayon fiber, classified in subheading 5504.10.0000 of the Harmonized Tariff Schedule of the United States (HTSUS), cannot be supplied by the domestic or Australian industry in commercial quantities in a timely manner and requesting that CITA consider whether the USAFTA rule of origin for 52% viscose/48% polyester blended yarn, classified under HTSUS subheading 5510.90.2000 should be modified to allow the use of non-U.S. and non-Australian viscose rayon fiber. The President may proclaim a modification to the USAFTA rules of origin for textile and apparel products after reaching an agreement with the Government of Australia on the modification. CITA hereby solicits public comments on this request, in particular with regard to whether viscose rayon fiber of HTSUS 5504.10.0000 can be supplied by the domestic industry in commercial quantities in a timely manner. Comments must be submitted by March 27, 2008. to the Chairman, Committee for the Implementation of Textile Agreements, Room 3001, United States Department of Commerce, Washington, DC 20230.

FOR FURTHER INFORMATION CONTACT: Anna Flaaten, International Trade Specialist, Office of Textiles and Apparel, U.S. Department of Commerce, (202) 482-4058.

SUPPLEMENTARY INFORMATION:

Authority: Section 204 of the Agricultural Act of 1956, as amended (7 USC 1854); Section 203 (o)(2)(B)(i) of the United States - Australia Free Trade Agreement Implementation Act (19 U.S.C. 3805 note) (USAFTA Implementation Act); Executive Order 11651 of March 3, 1972, as amended.

BACKGROUND:

Under the USAFTA, the parties are required to eliminate customs duties on textile and apparel goods that qualify as originating goods and meet the rules of origin set out in Annex 4-A to the USAFTA. The USAFTA provides that, after consultations, the parties may agree to revise the rules of origin for textile and apparel products to address issues of availability of supply of fibers, yarns, or fabrics in the free trade area. See Article 4.2.5 of the USAFTA. In the consultations, each party must consider data presented by the other party showing substantial production of the good. Substantial production has been shown if domestic producers are capable of supplying commercial quantities of the good in a timely manner.

The USAFTA Implementation Act provides the President with the authority to proclaim modifications to the USAFTA rules of origin as are necessary to implement the agreement after complying with the consultation and layover requirements of section 104 of the USAFTA Implementation Act. See section 203(o)(2)(B)(i) of the USAFTA Implementation Act. Executive Order 11651 established CITA to supervise the implementation of textile trade agreements and authorizes the Chairman of CITA to take actions or recommend that the United States take actions necessary to implement textile trade agreements. 37 FR 4699 (March 4, 1972).

On February 1, 2008, the Chairman of CITA received a request from Gentry Mills, alleging that certain viscose rayon fiber, classified under subheading 5504.10.0000 of the HTSUS, cannot be supplied by the domestic or Australian industry in commercial quantities in a timely manner and requesting that CITA consider whether the USAFTA rule of origin for 52% viscose/48% polyester blended yarn of HTSUS subheading 5510.90.2000 should be modified to allow the use of non-U.S. and non-Australian viscose rayon fiber of HTSUS 5504.10.0000.

CITA is soliciting public comments regarding this request, particularly with respect to whether the viscose rayon fiber described above can be supplied by the domestic industry in commercial quantities in a timely manner. Comments must be received no later than March 27, 2008. Interested persons are invited to submit six copies of such comments or information to the Chairman, Committee for the Implementation of Textile Agreements, Room 3001, U.S. Department of Commerce, 14th and Constitution Avenue, N.W., Washington, DC 20230.

If a comment alleges that viscose rayon fiber can be supplied by the domestic industry in commercial quantities in a timely manner, CITA will closely review any supporting documentation, such as a signed statement by a manufacturer stating that it produces viscose rayon fiber that is the subject of the request, including the quantities that can be supplied and the time necessary to fill an order, as well as any relevant information regarding past production.

CITA will protect any business confidential information that is marked “business confidential” from disclosure to the full extent permitted by law. CITA will make available to the public non-confidential versions of the request and non-confidential versions of any public comments received with respect to a request in Room 3001 in the Herbert Hoover Building, 14th and Constitution Avenue, N.W., Washington, DC 20230. In addition, non-confidential versions of the request and non-confidential versions of any public comments will be posted for public review on the Office of Textiles and Apparel (“OTEXA”) website (otexa.ita.doc.gov). Persons submitting comments on a request are encouraged to include a non-confidential version and a non-confidential summary.

R. Matthew Priest,
Chairman, Committee for the Implementation of Textile Agreements.

[FR Doc. E8-3620 Filed 2-25-08; 8:45 am]

BILLING CODE 3510-DS